DEPARTMENT OF HOMELAND SECURITY

Coast Guard

33 CFR Part 117

[Docket No. USCG-2015-0841]

Drawbridge Operation Regulation; Saugus River, Saugus, Massachusetts

AGENCY: Coast Guard, DHS.

ACTION: Notice of deviation from drawbridge regulation.

SUMMARY: The Coast Guard has issued a temporary deviation from the operating schedule that governs the Saugus RR Bridge, across the Saugus River, mile 2.1, at Saugus, Massachusetts. This deviation is necessary to facilitate essential maintenance repairs. This deviation allows the bridge to remain in the closed position during the maintenance repairs.

DATES: This deviation is effective from 12:01 a.m. on September 19, 2015 to 11:59 p.m. on September 20, 2015.

ADDRESSES: The docket for this deviation, [USCG-2015-0841] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, contact Mr. Joe Arca, Project Officer, First Coast Guard District, telephone (212) 514-4336, email joe.m.arca@uscg.mil. If you have questions on viewing the docket, call Ms. Cheryl Collins, Program Manager, Docket Operations, telephone (202) 366-9826.

SUPPLEMENTARY INFORMATION: The Saugus RR Bridge, mile 2.1, across Saugus River has a vertical clearance in the closed position of 7 feet at mean high water and 17 feet at mean low water. The existing bridge operating regulations opens on schedule as required by 33 CFR 117.5.

Saugus River is transited by commercial lobstermen and recreational vessel traffic.

Keolis Commuter Railroad requested this temporary deviation from the normal operating schedule to facilitate essential maintenance repairs.

Under this temporary deviation, the Saugus RR Bridge may remain in the closed position from 12:01 a.m. on September 19, 2015 to 11:59 p.m. on September 20, 2015.

There is no alternate route for vessel traffic; however, vessels that can pass under the closed draws during this closure may do so at any time. The bridge will be able to open in the event of an emergency.

The Coast Guard will inform the users of the waterway through our Local Notice to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: September 1, 2015.
C.J. Bisignano,
Supervisory Bridge Management Specialist, First Coast Guard District.

[FR Doc. 2015-23067 Filed 9-11-15; 8:45 am]

BILLING CODE 9110-04-P